NATIONAL FOUNDATION ON THE ARTS AND THE HUMANITIES

National Endowment for the Humanities

Meetings of Humanities Panel; Correction

AGENCY: National Endowment for the Humanities, National Foundation on the Arts and the Humanities.

ACTION: Notice of Meetings; correction.

SUMMARY: The National Endowment for the Humanities published a document in the Federal Register of September 16, 2015, concerning notice of meetings of the Humanities Panel during the month of October, 2015. One meeting date has changed. All other information in the notice remains the same.

FOR FURTHER INFORMATION CONTACT: Lisette Voyatzis, Committee Management Officer; (202) 606-8322; evoyatzis@neh.gov.

Correction

In the Federal Register of September 16, 2015, in FR Doc. 2015-23205, on page 55650, in the first column, replace item 16 with:

16. DATE: October 30, 2015.

TIME: 8:30 a.m. to 5:00 p.m.

ROOM: Virtual Meeting.

This meeting will discuss applications on the subject of Linguistics, for the Humanities Collections and Reference Resources grant program, submitted to the Division of Preservation and Access.

Dated: October 8, 2015.
Lisette Voyatzis,
Committee Management Officer.

[FR Doc. 2015-26381 Filed 10-15-15; 8:45 am]

BILLING CODE 7536-01-P